ENVIRONMENTAL PROTECTION AGENCY

40 CFR Parts 52 and 81

[CO-001-0076a, CO-001-0077a; FRL-7815-4]

Approval and Promulgation of Air Quality Implementation Plans; CO; Designation of Areas for Air Quality Planning Purposes, Lamar and Steamboat Springs

AGENCY: Environmental Protection Agency (EPA).

ACTION: Direct final rule; withdrawal.

SUMMARY: On August 5, 2004 EPA published a direct final rule (69 FR 47366) approving, and an accompanying proposed rule (69 FR 47399) proposing to approve a revision submitted by the State of Colorado on July 31, 2002, for the purpose of redesignating the Lamar, Colorado and Steamboat Springs, Colorado areas from nonattainment to attainment for particulate matter with an aerodynamic diameter less than or equal to a nominal 10 micrometers (PM10) under the 1987 standards. In the direct final rule, EPA stated that if adverse comments were received by September 7, 2004, the rule would be withdrawn and not take effect. EPA subsequently received adverse comments. EPA will summarize and respond to the comments received based on the proposed action published on August 5, 2004 (69 FR 47399). EPA will not institute a second comment period on this action.

DATES: The direct final rule published at 69 FR 47366 is withdrawn as of September 20, 2004.

FOR FURTHER INFORMATION CONTACT: Libby Faulk, Air Quality Planning and Management Unit, Air and Radiation Program, Mailcode 8P-AR, Environmental Protection Agency (EPA), Region VIII, 999 18th Street, Suite 300, Denver, Colorado, 80202. Telephone: (303) 312-6083. E-mail address: faulk.libby@epa.gov.

List of Subjects

40 CFR Part 52

Environmental protection, Air pollution control, Incorporation by reference, Intergovernmental relations, Reporting and recordkeeping requirements, Particulate Matter.

40 CFR Part 81

Air pollution control.

Dated: September 9, 2004.
Patricia D. Hull,
Acting Regional Administrator, Region 8.

[FR Doc. 04-20971 Filed 9-17-04; 8:45 am]

BILLING CODE 6560-50-P